DEPARTMENT OF COMMERCE

International Trade Administration

[A-489-853]

Certain Brake Drums From the Republic of Türkiye: Final Affirmative Determination of Sales at Less Than Fair Value

AGENCY: Enforcement and Compliance, International Trade Administration, Department of Commerce.

SUMMARY: The U.S. Department of Commerce (Commerce) determines that certain brake drums (brake drums) from the Republic of Türkiye (Türkiye) are being, or are likely to be, sold in the United States at less than fair value (LTFV). The period of investigation is April 1, 2023, through March 31, 2024.

DATES: Applicable June 18, 2025.

FOR FURTHER INFORMATION CONTACT: Eric Hawkins, AD/CVD Operations, Office V, Enforcement and Compliance, International Trade Administration, U.S. Department of Commerce, 1401 Constitution Avenue NW, Washington, DC 20230; telephone: (202) 482-1988.

SUPPLEMENTARY INFORMATION:

Background

On January 29, 2025, Commerce published in the Federal Register its preliminary affirmative determination in the LTFV investigation of brake drums from Türkiye, in which we also postponed the final determination until June 13, 2025.¹ We invited interested parties to comment on the Preliminary Determination.²

¹ See Certain Brake Drums from the Republic of Türkiye: Preliminary Affirmative Determination of Sales at Less Than Fair Value, Postponement of Final Determination, and Extension of Provisional Measures, 90 FR 8377 (January 29, 2025) (Preliminary Determination) and accompanying Preliminary Decision Memorandum.

² See Preliminary Determination, 90 FR at 8378.

A summary of the events that occurred since Commerce published the Preliminary Determination, as well as a full discussion of the issues raised by parties for this final determination, may be found in the Issues and Decision Memorandum.³ The Issues and Decision Memorandum is a public document and is made available to the public via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

³ See Memorandum, “Issues and Decision Memorandum for the Final Affirmative Determination in the Less Than Fair Value Investigation of Certain Brake Drums from the Republic of Türkiye,” dated concurrently with, and hereby adopted by, this notice (Issues and Decision Memorandum).

Scope of the Investigation

The products covered by this investigation are brake drums from Türkiye. For a complete description of the scope of this investigation, see Appendix I.

Scope Comments

During the course of this investigation, Commerce received scope comments from parties. Commerce issued a Preliminary Scope Decision Memorandum to address these comments and set aside a period of time for parties to address scope issues in scope-specific case and rebuttal briefs.⁴ We received comments from parties on the Preliminary Scope Decision Memorandum, which we address in the Final Scope Decision Memorandum.⁵ We have included additional Harmonized Tariff Schedule of the United States (HTSUS) subheadings in the scope of the investigation as compared with the scope published in the Preliminary Determination, as shown in Appendix I.

⁴ See Memorandum, “Antidumping Duty Investigations and Countervailing Duty Investigations of Certain Brake Drums from the People's Republic of China and the Republic of Türkiye: Preliminary Scope Decision Memorandum,” dated January 23, 2024 (Preliminary Scope Decision Memorandum).

⁵ See Memorandum, “Antidumping Duty and Countervailing Duty Investigations of Certain Brake Drums from the People's Republic of China and the Republic of Türkiye: Final Scope Decision Memorandum,” dated concurrently with this notice (Final Scope Decision Memorandum).

Verification

As provided in section 782(i) of the Tariff Act of 1930, as amended (the Act), in March and April 2025, Commerce verified the sales and cost information submitted by EKU Fren ve Dok. San. A.S. (EKU Fren), for use in our final determination. We used standard verification procedures, including an examination of relevant sales and accounting records, and original source documents provided by EKU Fren.⁶

⁶ See Memoranda, “Verification of the Sales Responses of EKU Fren ve Dok. San. A.S. in the Less-Than-Fair-Value Investigation of Certain Brake Drums from the Republic of Türkiye,” dated May 9, 2025; see also “Verification of the Cost Responses of EKU Fren ve Dok. San. A.S. in the Less-Than-Fair-Value Investigation of Certain Brake Drums from the Republic of Türkiye,” dated May 12, 2025.

Analysis of Comments Received

All issues raised in the case and rebuttal briefs submitted by interested parties in this investigation are addressed in the Issues and Decision Memorandum. For a list of the issues raised by interested parties and addressed in the Issues and Decision Memorandum, see Appendix II to this notice.

Changes Since the Preliminary Determination

We made certain changes to the margin calculations for EKU Fren since the Preliminary Determination. For a discussion of these changes, see the Issues and Decision Memorandum.

Use of Facts Available With Adverse Inferences

For the purposes of this final determination we find that, pursuant to section 776(a)(1) of the Act, the use of facts available with adverse inferences is warranted in determining the weighted-average dumping margin for non-responsive companies. For further discussion of these issues, see the Issues and Decision Memorandum.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act, i.e., facts otherwise available.

Pursuant to section 735(c)(5)(B) of the Act, if the estimated weighted-average dumping margins established for all exporters and producers individually examined are zero, de minimis, or determined based entirely on facts otherwise available, Commerce may use any reasonable method to establish the estimated weighted-average dumping margin for all other producers or exporters.

In this investigation, Commerce calculated an individual estimated weighted-average dumping margin for EKU Fren, the only individually-examined exporter/producer in this investigation. Because EKU Fren's dumping margin is not zero, de minimis, or based entirely on facts otherwise available, Commerce is assigning EKU Fren's dumping margin to all other producers and exporters not individually examined.

Final Determination

Commerce determines that the following estimated weighted-average dumping margins exist:

⁷ In the companion countervailing duty (CVD) investigation, Commerce calculated a 2.36 percent export subsidy rate for EKU Fren. See unpublished Federal Register notice titled, “Certain Brake Drums from the Republic of Türkiye: Final Affirmative Countervailing Duty Determination,” dated concurrently with this notice.

Producer/exporter | Weighted-average dumping margin (percent) | Cash deposit rate (adjusted for subsidy offsets) (percent) ⁷
EKU Fren ve Dok. San. A.S. | 15.22 | 12.86
Akkus Dokum San. Ve Tic. Ltd. Sti | * 149.29 | 146.93
Buyuk Eker Bijon Sanayi Ve Ticaret | * 149.29 | 146.93
Genk Otomotiv San. Dis Tic. Ltd. Sti | * 149.29 | 146.93
All Others | 15.22 | 12.86
* Rate is based on facts available with adverse inferences.

Disclosure

We intend to disclose the calculations performed in this final determination to interested parties within five days of any public announcement or, if there is no public announcement, within five days of the date of publication of this notice in the Federal Register, in accordance with 19 CFR 351.224(b).

Continuation of Suspension of Liquidation

In accordance with section 735(c)(1)(B) of the Act, we will instruct U.S. Customs and Border Protection (CBP) to continue to suspend liquidation of subject merchandise entries, as described in Appendix I of this notice, which are entered, or withdrawn from warehouse, for consumption on or after January 29, 2025, the date of publication in the Federal Register of the Preliminary Determination.

Pursuant to section 735(c)(1)(B)(ii) of the Act and 19 CFR 351.210(d), where appropriate, we will instruct CBP to require a cash deposit equal to the estimated weighted-average dumping margin or the estimated all-others rate as follows: (1) the cash deposit rate for the companies listed in the table above will be equal to the company-specific estimated weighted-average dumping margin determined in this final determination; (2) if the exporter is not a respondent identified above, but the producer is, then the cash deposit rate will be equal to the company-specific estimated weighted-average dumping margin established for that producer of the subject merchandise; and (3) the cash deposit rate for all other producers and exporters will be equal to the all-others estimated weighted-average dumping margin. These suspension of liquidation instructions will remain in effect until further notice.

To determine the cash deposit rate, Commerce normally adjusts the estimated weighted-average dumping margin by the amount of export subsidies countervailed in a companion CVD proceeding, when CVD provisional measures are in effect. Accordingly, where Commerce has made a final affirmative determination for countervailable export subsidies, Commerce offsets the estimated weighted-average dumping margin by the appropriate CVD rate. Commerce would adjust the cash deposit rate for export subsidies in the companion CVD investigation by the appropriate export subsidy rate; however, suspension of liquidation of provisional measures in the companion CVD proceeding has been discontinued.⁸ Therefore, we are not instructing CBP to collect cash deposits based upon the adjusted estimated weighted-average dumping margin for those export subsidies at this time. If the U.S. International Trade Commission (ITC) makes a final affirmative determination of injury due to both dumping and subsidies, then the cash deposit rate will be revised effective on the date of the publication of the ITC's final affirmative determination in the Federal Register to be the company-specific estimated weighted-average dumping margin adjusted for export subsidies.

⁸ See section 703(d) of the Act, which states that the provisional measures may not be in effect for more than four months, which in the companion CVD case is 120 days after the publication of the preliminary determination, or April 1, 2025 (i.e., the last day provisional measures are in effect).

ITC Notification

In accordance with section 735(d) of the Act, we will notify the ITC of our final affirmative determination of sales at LTFV. As Commerce's final determination is affirmative, in accordance with section 735(b)(2) of the Act, the ITC will determine, within 45 days, whether the domestic industry in the United States is materially injured, or threatened with material injury, by reason of imports of brake drums from Türkiye. If the ITC determines that material injury or threat of material injury does not exist, the proceeding will be terminated and all cash deposits will be refunded or canceled, and suspension of liquidation will be lifted. If the ITC determines that such injury does exist, Commerce will issue an antidumping duty order directing CBP to assess, upon further instruction by Commerce, antidumping duties on all imports of the subject merchandise that are entered, or withdrawn from warehouse, for consumption on or after the effective date of the suspension of liquidation, as discussed above in the section, “Continuation of Suspension of Liquidation.” In addition, we are making available to the ITC all non-privileged and non-proprietary information in our files, provided the ITC confirms that it will not disclose such information, either publicly or under administrative protective order (APO), without the written consent of the Assistant Secretary for Enforcement and Compliance.

Administrative Protective Order

This notice will serve as the final reminder to parties subject to an APO of their responsibility concerning the return or destruction of proprietary information disclosed under APO in accordance with 19 CFR 351.305(a)(3). Timely written notification of the return or destruction of APO materials or conversion to judicial protective order is hereby requested. Failure to comply with the regulations and the terms of an APO is a violation which is subject to sanction.

Notification to Interested Parties

This determination and this notice are issued and published pursuant to sections 735(d) and 777(i)(1) of the Act, and 19 CFR 351.210(c).

Dated: June 13, 2025.
Steven Presing,
Acting Deputy Assistant Secretary for Policy and Negotiations.

Appendix I

Scope of the Investigation

The merchandise covered by this investigation is certain brake drums made of gray cast iron, whether finished or unfinished, with an actual or nominal inside diameter of 14.75 inches or more but not over 16.6 inches, weighing more than 50 pounds. Unfinished brake drums are those which have undergone some turning or machining but are not ready for installation. Subject brake drums are included within the scope whether imported individually or with non-subject merchandise (for example, a hub), whether assembled or unassembled, or if joined with non-subject merchandise. When a subject drum is imported together with non-subject merchandise, such as, but not limited to, a drum-hub assembly, only the subject drum is covered by the scope.

Subject merchandise also includes finished and unfinished brake drums that are further processed in a third country or in the United States, including, but not limited to, assembly or any other processing that would not otherwise remove the merchandise from the scope of this investigation if performed in the country of manufacture of the subject brake drums. The inclusion, attachment, joining, or assembly of non-subject merchandise with subject drums either in the country of manufacture of the subject drum or in a third country does not remove the subject drum from the scope. Specifically excluded is merchandise covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The scope also excludes composite brake drums that contain more than 38 percent steel by weight.

The merchandise covered by this investigation is classifiable under Harmonized Tariff Schedule of the United States (HTSUS) subheading 8708.30.5020. The merchandise covered by this investigation may be classifiable under HTSUS subheading 8708.30.5090 when entered as part of an assembly. Subject merchandise may also enter under HTSUS subheading 8716.90.5060, 8704.10, 8704.23.01, 8704.32.01, 8704.43.00, 8704.52.00, 8704.60.00, 8708.50.61, 8708.50.6500, 8716.90.5010, 8716.31.00, 8716.39.00, 8716.40.00. Although the HTSUS subheadings are provided for convenience and customs purposes, the written description of the merchandise covered by this investigation is dispositive.

Appendix II

List of Topics Discussed in the Issues Decision Memorandum

I. Summary

II. Background

III. Changes Since the Preliminary Determination

IV. Discussion of the Issues

Comment 1: Whether Commerce Should Have Selected Two Mandatory Respondents

Comment 2: Whether Commerce Should Base Buyuk Eker Bijon Sanayi Ve Ticaret (Buyuk Eker)'s Final Margin on Adverse Facts Available (AFA)

Comment 3: Whether Commerce Should Perform Its Dumping Margin Analysis Using the Average-to-Average (A-to-A) Comparison Method or an Alternative

Comment 4: Whether Commerce Should Assign Partial AFA to Unreliable Data Fields

Comment 5: Whether to Apply AFA to EKU Fren's Direct Material Costs

Comment 6: Whether to Continue to Include an Upward Adjustment to Cost of Manufacturing (COM)

Comment 7: Whether to Include Certain Exchange Rate Gains in the Calculation of the General and Administrative (G&A) Expense Ratio

Comment 8: Whether to Include Certain Reconciling Items from the Cost Reconciliation in COM

V. Recommendation

[FR Doc. 2025-11230 Filed 6-17-25; 8:45 am]

BILLING CODE 3510-DS-P